DEPARTMENT OF COMMERCE

National Oceanic and Atmospheric Administration

50 CFR Part 622

[Docket No. 0907271173-0629-03]

RIN 0648-XE014

Snapper-Grouper Fishery of the South Atlantic; 2015 Recreational Accountability Measures and Closure for South Atlantic Snowy Grouper

AGENCY: National Marine Fisheries Service (NMFS), National Oceanic and Atmospheric Administration (NOAA), Commerce.

ACTION: Temporary rule; closure.

SUMMARY: NMFS implements accountability measures (AMs) for the recreational sector for snowy grouper in the South Atlantic for the 2015 fishing year through this temporary rule. Average recreational landings from 2012-2014 exceeded the recreational annual catch limit (ACL) for snowy grouper. To account for this overage, this rule reduces the length of the 2015 recreational fishing season. Therefore, NMFS closes the recreational sector for snowy grouper in the South Atlantic exclusive economic zone (EEZ) on July 6, 2015. This closure is necessary to protect the snowy grouper resource.

DATES: This rule is effective 12:01 a.m., local time, July 6, 2015, until 12:01 a.m., local time, January 1, 2016.

FOR FURTHER INFORMATION CONTACT: Catherine Hayslip, NMFS Southeast Regional Office, telephone: 727-824-5305, email: catherine.hayslip@noaa.gov.

SUPPLEMENTARY INFORMATION: The snapper-grouper fishery of the South Atlantic, which includes snowy grouper, is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

The recreational ACL for snowy grouper is 523 fish. In accordance with regulations at 50 CFR 622.193(b)(2), if the recreational ACL is exceeded, the Assistant Administrator, NOAA (AA), will file a notification with the Office of the Federal Register to reduce the length of the following fishing season by the amount necessary to ensure landings do not exceed the recreational ACL in the following fishing year. NMFS evaluates annual recreational landings with the recreational ACL for snowy grouper based on a 3-year running average of landings. For the 2015 fishing year, the most recent 3-year running average of recreational landings is the average of 2012-2014. Average landings from 2012-2014 exceeded the 2014 recreational ACL by 1,253 fish. Therefore, this temporary rule implements the post-season AM to reduce the fishing season for the recreational snowy grouper component of the snapper-grouper fishery by the amount necessary to ensure recreational landings do not exceed the recreational ACL in 2015. As a result, the recreational sector for snowy grouper will be closed effective 12:01 a.m., local time, July 6, 2015.

During the closure, the bag and possession limits for snowy grouper in or from the South Atlantic EEZ are zero. These limits apply in the South Atlantic for a person on board a vessel for which a valid Federal commercial or charter vessel/headboat permit for the South Atlantic snapper-grouper fishery has been issued regardless of whether the fish are harvested in state or Federal waters, as specified in 50 CFR 622.193(b)(2). The recreational sector for snowy grouper will reopen on January 1, 2016, the beginning of the 2016 recreational fishing season.

Classification

The Regional Administrator, Southeast Region, NMFS, has determined this temporary rule is necessary for the conservation and management of snowy grouper and the South Atlantic snapper-grouper fishery and is consistent with the Magnuson-Stevens Act and other applicable laws.

This action is taken under 50 CFR 622.193(b)(2) and is exempt from review under Executive Order 12866.

These measures are exempt from the procedures of the Regulatory Flexibility Act because the temporary rule is issued without opportunity for prior notice and comment.

This action responds to the best scientific information available. The Assistant Administrator for Fisheries, NOAA (AA), finds that the need to immediately implement this action to close the recreational sector for snowy grouper constitutes good cause to waive the requirements to provide prior notice and opportunity for public comment on this temporary rule pursuant to the authority set forth in 5 U.S.C. 553(b)(B), as such procedures would be unnecessary and contrary to the public interest. Such procedures are unnecessary because the rule implementing the AMs established by Amendment 17B to the FMP (75 FR 82280, December 30, 2010) and located at 50 CFR 622.193(b)(2) has already been subject to notice and comment, and all that remains is to notify the public of the closure. Such procedures are contrary to the public interest because of the need to immediately implement this action to protect the snowy grouper resource, since time for notice and public comment will allow for continued recreational harvest and exceedance of the recreational ACL. Additionally, there is a need to immediately notify the public of the reduced recreational fishing season for snowy grouper for the 2015 fishing year. Prior notice and opportunity for public comment would be contrary to the public interest because many of those affected by the length of the recreational fishing season, particularly charter vessel and headboat operations, book trips for clients in advance and, therefore, need as much time as possible to adjust business plans to account for the reduced recreational fishing season.

For the aforementioned reasons, the AA also finds good cause to waive the 30-day delay in the effectiveness of this action under 5 U.S.C. 553(d)(3).

Authority: 16 U.S.C. 1801 et seq.

Dated: June 29, 2015.
Emily H. Menashes,
Acting Director, Office of Sustainable Fisheries, National Marine Fisheries Service.

[FR Doc. 2015-16379 Filed 6-29-15; 4:15 pm]

BILLING CODE 3510-22-P